DEPARTMENT OF COMMERCE

National Oceanic and Atmospheric Administration

50 CFR Part 660

[Docket No. 160808696-7010-02]

RIN 0648-BH20

Magnuson-Stevens Act Provisions; Fisheries Off West Coast States; Pacific Coast Groundfish Fishery; 2017-2018 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces inseason changes to management measures in the Pacific Coast groundfish fisheries. This action, which is authorized by the Pacific Coast Groundfish Fishery Management Plan (PCGFMP), is intended to allow fisheries to access more abundant groundfish stocks while protecting overfished and depleted stocks.

DATES: This final rule is effective October 19, 2017.

FOR FURTHER INFORMATION CONTACT: Karen Palmigiano, phone: 206-526-4491, fax: 206-526-6736, or email: karen.palmigiano@noaa.gov.

SUPPLEMENTARY INFORMATION:

Electronic Access

This rule is accessible via the Internet at the Office of the Federal Register Web site at https://www.federalregister.gov. Background information and documents are available at the Pacific Fishery Management Council's Web site at http://www.pcouncil.org/.

Background

The PCGFMP and its implementing regulations at title 50 in the Code of Federal Regulations (CFR), part 660, subparts C through G, regulate fishing for over 90 species of groundfish off the coasts of Washington, Oregon, and California. Groundfish specifications and management measures are developed by the Pacific Fishery Management Council (Council), and are implemented by NMFS.

The final rule to implement the 2017-2018 harvest specifications and management measures for most species of the Pacific coast groundfish fishery was published on February 7, 2017 (82 FR 9634).

The Council, in coordination with Pacific Coast Treaty Indian Tribes and the States of Washington, Oregon, and California, recommended three changes to current groundfish management measures at its September 11-18, 2017 meeting. The changes the Council recommended include: (1) Increasing the sablefish trip limits in the limited entry fixed gear (LEFG) and open access (OA) sablefish daily trip limit (DTL) fisheries north of 36° North latitude (N. lat.), (2) adding a reference to the current lingcod size limits in the trip limit table for the trawl fishery, and (3) implementing depth restrictions in the California recreational fishery.

LEFG and OA Sablefish DTL Fisheries North of 36° N. Lat.

To increase harvest opportunities for LEFG and OA sablefish DTL fisheries north of 36° N. lat., the Council recommended increases to sablefish trip limits for all remaining periods in 2017. Trip limits for LEFG and OA sablefish DTL fisheries have been designated at 50 CFR 660.60(c)(1)(i) and in Section 6.2.1 of the PCGFMP as routine management measures.

Sablefish are distributed coastwide with harvest specifications split north and south of 36° N. lat. Trip limit increases, for species such as sablefish, are intended to increase attainment of the non-trawl harvest guideline (HG).

To assist the Council in evaluating the increases to sablefish trip limits, the Groundfish Management Team (GMT) made model-based landings projections for the LEFG and OA sablefish DTL fisheries north of 36° N. lat. for the remainder of this year. These projections were based on the most recent information available. The model predicts harvest of 76 percent (194 mt) of the LEFG harvest guideline (HG) (258 mt) and harvest of 77 percent (326 mt) of the OA sablefish DTL fishery HG (425 mt) under the current limits through the end of the year. With the recommended increase in sablefish trip limits, the projected harvest is 80 percent (206.9 mt) of the LEFG HG (258 mt) and 88 percent (374 mt) of the OA sablefish DTL fishery HG (425 mt) through the end of the year. This increase in trip limits does not change projected impacts to co-occurring overfished species from those anticipated in the 2017-18 harvest specifications and management measures, as the projected impacts to those species assume that the entire sablefish ACL is harvested. Finally, projections for the LEFG sablefish fisheries south of 36° N. lat. are similar to levels anticipated in the 2017-18 harvest specifications and management measures, and no requests were made by industry for changes; therefore, no inseason actions were considered. Therefore, the Council recommended and NMFS is implementing, by modifying Tables 2 (North and South) to part 660, subpart E, trip limit changes for the LEFG sablefish DTL fisheries north of 36° N. lat. The trip limits for sablefish in the LEFG fishery north of 36° N. lat. increase from “1,100 lb (499 kg) per week, not to exceed 3,300 lb (1,497 kg) per two months” to “1,500 lb (680 kg) per week, not to exceed 4,500 lb (2,041 kg) per two months” beginning in period 5 through the end of the year.

The Council also recommended and NMFS is implementing, by modifying Tables 3 (North and South) to part 660, subpart F, trip limits for sablefish in the OA sablefish DTL fishery north of 36° N. lat., an increase from “300 lb (136 kg) per day, or one landing per week of up to 1,000 lb (454 kg), not to exceed 2,000 lb (907 kg) per two months” to “300 lb (136 kg) per day, or one landing per week of up to 1,300 lb (590 kg), not to exceed 2,600 lb (1,179 kg) per two months” beginning in period 5 through the end of the year.

Clarification on Lingcod Size Limits for the Shorebased Individual Fishing Quota (IFQ) Program

At the September Council meeting, members of the Enforcement Consultants (EC) noted confusion with regards to size limits for lingcod, an IFQ species, caught with trawl gear in the Shorebased IFQ Program north and south of 42° N. lat. Currently, lingcod size limits apply, per regulations at § 660.60(h)(5)(ii)(B)(2). However, members of the EC and the public have commented that it can be difficult to find the regulations, and that they could be misinterpreted. Therefore, the Council recommended that NMFS include a reference to the current lingcod size limits (22 inches for north of 42° N. lat. and 24 inches for south of 42° N. lat.) in Tables 1 (North and South), part 660, subpart D. However, Tables 1 (North and South) do not provide any information regarding IFQ species (e.g. size limits, landing limits, vessel limits, etc.). These tables describe rockfish conservation areas for vessels using groundfish trawl gear and incidental landing allowances for non-IFQ species (for vessels registered to a limited entry trawl permit and using groundfish trawl or groundfish non-trawl gears to harvest IFQ species). NMFS thought it might cause confusion to intermingle IFQ species size limits in the tables that describe non-IFQ species trip limits and trawl rockfish conservation area boundaries. However, consistent with the intent to clarify the applicable size limits for lingcod harvested in the Shorebased IFQ Program, NMFS is clarifying regulations at § 660.60(h)(5)(ii)(B)(2).

Size limits are designated as routine management measures at § 660.60(c)(1)(i) and in Section 6.2.1 of the PCGFMP. Based on the reasons stated above, instead of including a reference to lingcod size limits in Tables 1 (North and South), NMFS is making clarifying edits to existing regulations at § 660.60(h)(5)(ii)(B), which is the section of the regulations describing weight conversions and size limits for the Shorebased IFQ Program. The change to the regulations includes a clear reference to the lingcod size limits for north and south of 42° N. lat. for the Shorebased IFQ Program for both the whole fish and fish with the head removed.

California Recreational Fishery Management Measures

In June 2016, the Council recommended Oregon and California recreational groundfish regulations for 2017 and 2018. At that time, management measures were anticipated to keep recreational catch within HGs and targets. However, recently, recreational fisheries in both Oregon and California have experienced higher than expected mortality for certain species. These species include black rockfish and cabezon in Oregon only, as well as yelloweye rockfish in both Oregon and California. The higher mortality has likely been the result of more favorable weather conditions experienced over the past few months, as well as increased fishing for groundfish due to a decline in salmon harvest opportunities due to the status of salmon stocks. Because of these factors, effort and impacts have been higher than originally projected, and will approach and/or exceed relevant state HGs. The state of Oregon has recently taken action through their state processes to address the higher than anticipated harvest in their recreational fisheries. California, however, relies on modifications to the federal regulations to address their higher than anticipated harvest. Inseason changes to depth restrictions for the California recreational fishery are designated at § 660.60(c)(3)(i) and in Section 6.2.1 of the PCGFMP as routine management measures.

At the September Council meeting, the GMT was informed that California was experiencing higher than projected recreational harvest of yelloweye rockfish. The California Department of Fish and Wildlife (CDFW) stated in their report (September 2017 Council Meeting, Agenda Item E.10.a, Supplemental CDFW Report 1) that information through September 10, 2017 suggested that, without intervention to reduce encounters, the California recreational harvest of yelloweye rockfish would exceed the state's HG by 15 percent, or almost 0.6 mt over their 3.9 mt HG. Based on this new information, the GMT conducted model-based runs for two alternative season structures that included depth-based area closures for October-December. The model determined that by restricting the depths at which fishing may occur, CDFW could reduce the projected impacts to yelloweye rockfish by 0.3-0.4 mt.

Therefore, the Council recommended and NMFS is implementing, through modifications to regulations at § 660.360(c)(3)(i)(A)(1) through (4), more restrictive depth closures for 4 of the 5 California recreational fishery management areas. The Council did not recommend a change for the Southern Management Area (south of 34°27′ N. lat.) at this time, which is already restricted to waters deeper than the 60 fm depth contour.

Under the current regulations, recreational fishing is restricted by depth in the Northern and Mendocino Management Areas during May through October 31; with all depths open for November and December. With the implementation of this rule, recreational fishing in this management area will be restricted from mid-October through the end of the year to shoreward of the 20 fm depth contour. Additionally, recreational fishing is currently restricted to shoreward of the 40 fm depth contour in the San Francisco Management Area and the 50 fm depth contour in the Central Management Area. Through this rule, recreational fishing will be further restricted between October 16 and December 31 in these areas. Beginning October 16 in the San Francisco Management Area, recreational fishing will be prohibited seaward of the 30 fm depth contour and the 40 fm depth contour in the Central Management Area.

More restrictive depth restrictions are intended to allow some recreational fishing to continue to occur while reducing catch of overfished yelloweye rockfish and keeping projected total catch through the end of the year below the ACL. According to the most recent data, even taking into account the overages in Oregon and California, there is an approximately 1.3 mt residual amount of yelloweye rockfish from the off-the-top deductions that were made through the biennial specifications process, including 0.4 mt that was not allocated at the beginning of the biennium, 0.9 mt from research which is projected to go unused, and 0.3 mt from incidental open access that is projected to go unused. Therefore, even if California takes an additional 0.6 mt over their 3.9 mt allocation, there is an extremely low risk of exceeding the ACL.

Classification

This final rule makes routine inseason adjustments to groundfish fishery management measures, based on the best available information, consistent with the PCGFMP and its implementing regulations.

This action is taken under the authority of 50 CFR 660.60(c) and is exempt from review under Executive Order 12866.

The aggregate data upon which these actions are based are available for public inspection at the Office of the Administrator, West Coast Region, NMFS, during business hours.

NMFS finds good cause to waive prior public notice and comment on the revisions to groundfish management measures under 5 U.S.C. 553(b) because notice and comment would be impracticable and contrary to the public interest. Also, for the same reasons, NMFS finds good cause to waive the 30-day delay in effectiveness pursuant to 5 U.S.C. 553(d)(3), so that this final rule may become effective October 19, 2017. The adjustments to management measures in this document affect commercial fisheries in Washington, Oregon and California and recreational fisheries in California. No aspect of this action is controversial, and changes of this nature were anticipated in the biennial harvest specifications and management measures established through a notice and comment rulemaking for 2017-18.

Accordingly, for the reasons stated below, NMFS finds good cause to waive prior notice and comment and to waive the delay in effectiveness.

LEFG and OAFG DTL Sablefish Fisheries North of 36° N. Lat.

At its September 2017 Council meeting, the Council recommended an increase to LEFG and OA sablefish north of 36° N. lat. trip limits be implemented as quickly as possible to allow harvest of sablefish to approach but not exceed the 2017 ACL. There was not sufficient time after that meeting to undergo proposed and final rulemaking before this action needs to be in effect. Affording the time necessary for prior notice and opportunity for public comment would prevent NMFS from managing the LEFG and OA fixed gear sablefish DTL fishery using the best available science to approach, without exceeding, the ACLs for federally managed species in accordance with the PCGFMP and applicable law. These increases to trip limits must be implemented as quickly as possible during the two-month cumulative limit period to allow LEFG and OAFG fishermen an opportunity to harvest higher limits for sablefish without exceeding the ACL north of 36° N. lat.

It is in the public interest for fishermen to have an opportunity to harvest the sablefish ACL north of 36° N. lat. because the sablefish fishery contributes revenue to the coastal communities of Washington, Oregon, and California. This action, if implemented quickly, is anticipated to allow catch of sablefish through the end of the year to approach but not exceed the ACL, and allows harvest as intended by the Council, consistent with the best scientific information available.

Clarification on Lingcod Size Limits for the Shorebased IFQ Program

At its September Council meeting, the Council recommended NMFS include a reference to the lingcod size limits for north and south of 42° N. lat. in the trip limit tables for the limited entry trawl fishery, Tables 1 (North and South). After additional consideration, NMFS is clarifying existing regulations instead of adding a reference to the trip limit tables for the reasons mentioned in the above section. There was not sufficient time after the Council meeting to undergo proposed and final rulemaking before this action needs to be in effect. Affording the time necessary for prior notice and opportunity for public comment would not be in the public interest for fishermen or the public. Fisherman knowing and abiding by the correct size limits in regulation protects small and juvenile fish and prevents unintended impacts to the stock. This action, if implemented quickly, is anticipated to make the lingcod size limits clearer for fishermen and the NOAA Office of Law Enforcement as well as state enforcement agencies, which will help them to abide by all federal size limits for lingcod, and is consistent with the best scientific information available.

California Recreational Fishery Management Measures

At its September Council meeting, the Council recommended changes to the depth restrictions for recreational fishery management areas off of California be implemented as soon as possible to prevent further exceedance of the state HG for yelloweye rockfish (3.9 mt) while still providing recreational fishing opportunity to that sector. There was not sufficient time after that meeting to undergo proposed and final rulemaking before this action needs to be in effect. Affording the time necessary for prior notice and opportunity for public comment would prevent NMFS and California from managing the California recreational sector using the best available science to address exceedance of the State's yelloweye rockfish HG, keep catch through the end of the year within the rebuilding ACL, while allowing harvest opportunites as intended by the Council and in accordance with the PCGFMP and applicable law. These depth-based restrictions will move vessels to shallower waters where they are less likely to encounter yelloweye rockfish, while also providing the recreational fishing opportunity that benefits local communities.

It is in the public interest in California to allow the recreational fishery to remain open for the remainder of the year. Recreational fishing in California contributes revenue to the coastal communities of that state, and closing the fishery for the remainder of the year would cause adverse economic impacts to those communities. This action, if implemented quickly, is anticipated to provide recreational fishing opportunity for the duration of the year, keep the yelloweye rockfish harvest within the federal ACL, and is consistent with the best scientific information available.

List of Subjects in 50 CFR Part 660

Fisheries, Fishing, and Indian fisheries.

Dated: October 16, 2017.
Alan D. Risenhoover,
Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. In § 660.60, paragraphs (h)(5)(ii)(B) introductory text, (h)(5)(ii)(B)(2) introductory text, and (h)(5)(ii)(B)(2)(i) and (ii) are revised to read as follows:

§ 660.60 Specifications and management measures.

* * * * *

(h) * * *

(5) * * *

(ii) * * *

(B) Shorebased IFQ Program. For vessels landing sorted catch, the weight conversions for purposes of applying QP and size limits are provided in paragraphs (h)(5)(ii)(B)(2)(i) through (iii) of this section.

* * * * *

(2) Lingcod. The following conversions and size limits apply:

(i) The minimum size limit for lingcod North of 42° N. lat. is 22 inches (56 cm) total length for whole fish, which corresponds to 18 inches (46 cm) with the head removed.

(ii) The minimum size limit for lingcod South of 42° N. lat. is 24 inches (61 cm) total length for whole fish, which corresponds to 19.5 inches (49.5 cm) with the head removed.

* * * * *

3. Table 2 (North) and Table 2 (South) to part 660, subpart E are revised to read as follows:

BILLING CODE 3510-22-P

4. Table 3 (North) and Table 3 (South) to part 660, subpart F are revised to read as follows:

5. In § 660.360, paragraphs (c)(3)(i)(A)(1) through (4) are revised to read as follows:

§ 660.360 Recreational fishery—management measures.

* * * * *

(c) * * *

(3) * * *

(i) * * *

(A) * * *

(1) Between 42° N. lat. (California/Oregon border) and 40°10′ N. lat. (Northern Management Area), recreational fishing for all groundfish (except petrale sole, starry flounder, and “other flatfish” as specified in paragraph (c)(3)(iv) of this section) is prohibited seaward of the 30 fm (55 m) depth contour along the mainland coast and along islands and offshore seamounts from May 1 through October 15 (shoreward of 30 fm is open); is prohibited seaward of the 20 fm (37 m) depth contour along the mainland coast and along islands and offshore seamounts from October 16 through December 31 (shoreward of 20 fm is open); and is closed entirely from January 1 through April 30. Coordinates for the boundary line approximating the 20 (37 m) and 30 fm (55 m) depth contours are listed in § 660.71.

(2) Between 40°10′ N. lat. and 38°57.50′ N. lat. (Mendocino Management Area), recreational fishing for all groundfish (except petrale sole, starry flounder, and “other flatfish” as specified in paragraph (c)(3)(iv) of this section) is prohibited seaward of the 20 fm (37 m) depth contour along the mainland coast and along islands and offshore seamounts from May 1 through December 31 (shoreward of 20 fm is open), and is closed entirely from January 1 through April 30. Coordinates for the boundary line approximating the 20 fm depth contour are listed in § 660.71.

(3) Between 38°57.50′ N. lat. and 37°11′ N. lat. (San Francisco Management Area), recreational fishing for all groundfish (except petrale sole, starry flounder, and “other flatfish” as specified in paragraph (c)(3)(iv) of this section) is prohibited seaward of the boundary line approximating the 40 fm (73 m) depth contour along the mainland coast and along islands and offshore seamounts from April 15 through October 15; is prohibited seaward of the boundary line approximating the 30 fm (55 m) depth contour along the mainland coast and along islands and offshore seamounts from October 16 through December 31, and is closed entirely from January 1 through April 14. Closures around Cordell Banks (see paragraph (c)(3)(i)(C) of this section) also apply in this area. Coordinates for the boundary line approximating the 30 (55 m) and 40 fm (73 m) depth contours are listed in § 660.71.

(4) Between 37°11′ N. lat. and 34°27′ N. lat. (Central Management Area), recreational fishing for all groundfish (except petrale sole, starry flounder, and “other flatfish” as specified in paragraph (c)(3)(iv) of this section) is prohibited seaward of a boundary line approximating the 50 fm (91 m) depth contour along the mainland coast and along islands and offshore seamounts from April 1 through October 15; is prohibited seaward of a boundary line approximating the 40 fm (73 m) depth contour along the mainland coast and along islands and offshore seamounts from October 16 through December 31and is closed entirely from January 1 through March 31 (i.e., prohibited seaward of the shoreline). Coordinates for the boundary line approximating the 40 fm (73 m) depth contour are specified at § 660.71 and the 50 fm (91 m) depth contour are specified in § 660.72.

* * * * *

[FR Doc. 2017-22695 Filed 10-18-17; 8:45 am]

BILLING CODE 3510-22-C